DEPARTMENT OF COMMERCE

National Oceanic and Atmospheric Administration

RIN 0648-XX29

Endangered and Threatened Species; Initiation of a 5-year Review of the Baiji/Chinese River Dolphin/Yangtze River Dolphin

AGENCY: National Marine Fisheries Service (NMFS), National Oceanic and Atmospheric Administration (NOAA), Commerce.

ACTION: Notice of initiation of 5-year review; request for information.

SUMMARY: NMFS announces a 5-year review of the Baiji/Chinese River Dolphin/Yangtze River Dolphin (Lipotes vexillifer) under the Endangered Species Act of 1973, as amended (ESA). A 5-year review is a periodic process conducted to ensure that the listing classification of a species is accurate and it is based on the best scientific and commercial data available at the time of the review; therefore, we are requesting submission of any such information on the Baiji/Chinese River Dolphin/Yangtze River Dolphin that has become available. Based on the results of this 5-year review, we will make the requisite finding under the ESA.

DATES: To allow us adequate time to conduct this review, we must receive your information no later than September 20, 2010. However, we will continue to accept new information about any listed species at any time.

ADDRESSES: You may submit comments, identified by [0648-XX29], by either of the following methods:

Mail: Angela Somma, National Marine Fisheries Service, Office of Protected Resources, Endangered Species Division, 1325 East West Highway, Silver Spring, MD 20910

Fax: 301-713-4060, attention: Angela Somma

Electronic Submissions: Submit all electronic public comments via the Federal eRulemaking Portal http://www.regulations.gov, by selecting “submit a comment” and ID# 0648-XX29. Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required fields, if you wish to remain anonymous). You may submit attachments to electronic comments in Microsoft Word, Excel, WordPerfect, or Adobe PDF file formats only.

To the extent consistent with applicable law, we will make all submissions from organizations or businesses, and from individuals identifying themselves as representatives or officials of organizations or businesses, available for public inspection in their entirety. Information received in response to this notice and review will be available for public inspection (by appointment, during normal business hours) at the above address.

FOR FURTHER INFORMATION CONTACT: Larissa Plants (301) 713-1401, larissa.plants@noaa.gov.

SUPPLEMENTARY INFORMATION:

Background

Under the ESA, a list of endangered and threatened wildlife and plant species (list) must be maintained. The list is published at 50 CFR 17.11 (for animals) and 17.12 (for plants). Section 4(c)(2)(A) of the ESA requires that we conduct a review of listed species at least once every 5 years. On the basis of such reviews under section 4(c)(2)(B), we determine whether or not any species should be removed from the list (delisted), or reclassified from endangered to threatened or from threatened to endangered. Delisting a species must be supported by the best scientific and commercial data available and only considered if such data substantiates that the species is neither endangered nor threatened for one or more of the following reasons: (1) the species is considered extinct; (2) the species is considered to be recovered; and/or (3) the original data available when the species was listed, or the interpretation of such data, were in error. Any change in federal classification would require a separate rulemaking process. The regulations (50 CFR 424.21) require that we publish a notice in the Federal Register announcing those species currently under active review. This notice announces our active review of the Baiji/Chinese River Dolphin/Yangtze River Dolphin (Lipotes vexillifer) currently listed as endangered.

Public Solicitation of New Information

To ensure that the 5-year review is complete and based on the best available scientific and commercial information, we are soliciting new information from the public, concerned governmental agencies, tribes, the scientific community, industry, environmental entities, and any other interested parties concerning the status of the Baiji/Chinese River Dolphin/Yangtze River Dolphin (Lipotes vexillifer).

Five-year reviews consider the best scientific and commercial data and all new information that has become available since the listing determination or most recent status review. Categories of requested information include the following: (A) species biology, including, but not limited to, population trends, distribution, abundance, demographics, and genetics; (B) habitat conditions, including, but not limited to, amount, distribution, and suitability; (C) conservation measures that have been implemented that benefit the species; (D) status and trends of threats; and (E) other new information, data, or corrections, including, but not limited to, taxonomic or nomenclatural changes, identification of erroneous information contained in the list, and improved analytical methods.

If you wish to provide information for this 5-year review, you may submit your information and materials to Angela Somma (see ADDRESSES).

Authority: 16 U.S.C. 1531 et seq.

Dated: July 15, 2010.
Therese Conant,
Acting Chief, Endangered Species Division, Office of Protected Resources, National Marine Fisheries Service.

[FR Doc. 2010-17832 Filed 7-21-10; 8:45 am]

BILLING CODE 3510-22-S